DEPARTMENT OF COMMERCE

Foreign-Trade Zones Board

(Docket T-4-2005)

Foreign-Trade Zone 26 - Atlanta, Georgia, Application for Temporary/Interim Manufacturing Authority, Perkins Shibaura Engines LLC, (Compact Diesel Engines), Griffin, Georgia

An application has been submitted to the Executive Secretary of the Foreign-Trade Zones Board (the Board) by Georgia Foreign-Trade Zone, Inc., grantee of FTZ 26, requesting temporary/interim manufacturing (T/IM) authority within Site 6 of FTZ 26, at the facilities of Perkins Shibaura Engines LLC (Perkins) located in Griffin, Georgia. The application was filed on December 8, 2005.

The Perkins facility (135 employees; annual capacity for 30,000 engines) is located within Site 6 of FTZ 26 at 325 Green Valley Road, Griffin, Georgia. Under T/IM procedures, the company has requested authority to manufacture compact diesel engines (HTS 8408.90; these products enter the United States duty free). The company may source the following input items from abroad for manufacturing the finished products under T/IM authority, as delineated in Perkins' application: fuel pumps, injectors, and water pumps (HTS 8413.30); crankshafts and camshafts (8483.10); flywheels and pulleys (8483.50); oil/fuel filter (8421.23); starter motors (8511.40); glowplugs (8511.80); regulating valves (8481.80); rubber seals and O-rings (4016.93); fasteners (7318.15); and bearing housings/plain shaft bearings (8483.30). Duty rates on these inputs range from duty-free to 8.5%. T/IM authority could be granted for a period of up to two years. Perkins has also submitted a request for permanent FTZ manufacturing authority (for which Board filing is pending), which includes ten additional inputs.

FTZ procedures would allow Perkins to elect the finished-product duty rates for the ten imported production inputs listed above. The company indicates that it would also realize logistical/paperwork savings, duty-deferral savings, and savings on exports under FTZ procedures. The company may realize duty deferral savings on the ten additional inputs mentioned above if they are stored in the FTZ until introduction into the manufacturing process.

Public comment is invited from interested parties. Submissions shall be addressed to the Board's Executive Secretary at one of the following addresses:

1. Submissions via Express/Package Delivery Services: Foreign-Trade Zones Board, U.S. Department of Commerce, Franklin Court Building - Suite 4100W, 1099 14th St. NW, Washington, D.C. 20005; or

2. Submissions via the U.S. Postal Service: Foreign-Trade Zones Board, U.S. Department of Commerce, FCB - Suite 4100W, 1401 Constitution Ave. NW, Washington, D.C. 20230.

The closing period for their receipt is January 17, 2006.

A copy of the application will be available for public inspection at the Office of the Foreign-Trade Zones Board's Executive Secretary at the first address listed above.

Dated: December 8, 2005.
Dennis Puccinelli,
Executive Secretary.

[FR Doc. 05-24090 Filed 12-14-05; 8:45 am]

BILLING CODE 3510-DS-S